DEPARTMENT OF DEFENSE

Office of the Secretary

[DoD-2007-OS-0042]

Privacy Act of 1974; System of Records

AGENCY: Defense Intelligence Agency, DoD.

ACTION: Notice to delete a system of records.

SUMMARY: The Office of the Secretary of Defense is deleting a system of records notice from its existing inventory of records systems subject to the Privacy Act of 1974, (5 U.S.C. 552a), as amended.

DATES: This proposed action will be effective without further notice on June 4, 2007 unless comments are received which result in a contrary determination.

ADDRESSES: DIA Privacy Act Compliance Officer, DAN 1C, 200 McDill Blvd, Washington, DC 20340.

FOR FURTHER INFORMATION CONTACT: Ms. Theresa Lowery at (202) 231-1193.

SUPPLEMENTARY INFORMATION: The Defense Intelligence Agency systems of records notices subject to the Privacy Act of 1974, (5 U.S.C. 552a), as amended, have been published in the Federal Register and are available from the address above.

The Defense Intelligence Agency proposes to delete a system of records notice from its inventory of record systems subject to the Privacy Act of 1974 (5 U.S.C. 552a), as amended. The deletion is not within the purview of subsection (r) of the Privacy Act of 1974 (5 U.S.C. 552a), as amended, which requires the submission of new or altered systems reports.

Dated: April 30, 2007.
L.M. Bynum,
Alternate OSD Federal Register Liaison Officer, Department of Defense.

Deletion:

LDIA 05-0004.

System name:

AVUE Technologies Position Management, Recruitment, Retention and Staffing Module (PMRRS) (June 14, 2006, 71 FR 34317)

Reason:

Information is no longer collected or maintained by AVUE (Contractor). The information collected is being maintained in a system of records notice LDIA 05-0001, Human Resources Management System (HRMS) (November 25, 2005, 70 FR 71099).

[FR Doc. 07-2196 Filed 5-3-07; 8:45 am]

BILLING CODE 5001-06-M